EXPORT-IMPORT BANK OF THE U.S.

[Public Notice 105]

Agency Information Collection Activities; Comment Request

AGENCY: Export-Import Bank of the United States (Ex-Im Bank).

ACTION: Notice and Request for Comments.

SUMMARY: The Export-Import Bank , as a part of its continuing effort to reduce paperwork and respondent burden, invites the general public and other Federal agencies to comment on the proposed information collection, as required by the Paperwork Reduction Act of 1995.

DATES: Written comments should be received on or before March 17, 2008 to be assured of consideration.

ADDRESSES: Direct all comments and requests for additional information to Nicole Valtos, Export-Import Bank of the U.S., 811 Vermont Avenue, NW., Washington, DC 20571, (202) 565-3411, (800) 565-3946, Ext. 3411, or nicole.valtos@exim.gov.

SUPPLEMENTARY INFORMATION: Title and Form Number: Ex-Im Bank Letter of Interest Application, EIB Form 95-9.

OMB Number: 3048-0005.

Type of Review: Extension of a currently approved collection.

Need and Use: The information requested enables the applicant to provide Ex-Im Bank with the information necessary to determine eligibility for an indicative offer of support under the loan and guarantee programs.

Affected Public: Business and other for-profit institutions.

Respondents: Entities involved in the provision of financing or arranging of financing for foreign buyers of U.S. exports.

Estimated Annual Respondents: 500.

Estimated Time Per Respondent: 20 Minutes.

Estimated Annual Burden: 167 Hours.

Frequency of Response: When applying for a Letter of Interest.

Solomon Bush,
Agency Clearance Officer.

[FR Doc. E8-680 Filed 1-16-08; 8:45 am]

BILLING CODE 6690-01-P